DEPARTMENT OF HEALTH AND HUMAN SERVICES

Centers for Disease Control and Prevention

Science and Program Review Subcommittee (SPRS) and the Advisory Committee for Injury Prevention and Control (ACIPC): Meetings

In accordance with section 10(a)(2) of the Federal Advisory Committee Act (Pub. L. 92-463), the Centers for Disease Control and Prevention (CDC) announces the following subcommittee and committee meetings.

Name: Science and Program Review Subcommittee to ACIPC.

Time and Date: 9 a.m.-11:15 a.m., April 30, 2003.

Place: The Westin Peachtree Plaza, 210 Peachtree Street, NW., Atlanta, Georgia 30303-1745.

Status: Open to the public, limited only by the space available.

Purpose: The Subcommittee provides advice on the needs, structure, progress and performance of the National Center for Injury Prevention and Control (NCIPC) programs. The Subcommittee provides second-level scientific and programmatic review for applications for research grants, cooperative agreements, and training grants related to injury control and violence prevention, and recommends approval of projects that merit further consideration for funding support. The Subcommittee also advises on priorities for research to be supported by contracts, grants, and cooperative agreements, and provides concept review of program proposals and announcements.

Matters to be Discussed: Agenda items of the Subcommittee oversight meeting include status of fiscal year (FY) 2003 request for applications (RFAs), early notification and marketing of RFAs, status of FY 2003 Injury Control Research Center (ICRC) RFAs, evaluating the ICRC program, mental health and terrorism, and dissemination research experience with FY 2002 RFA and future steps.

Name: Advisory Committee for Injury Prevention and Control.

Time and Dates: 1:30 p.m.-5:40 p.m., April 30, 2003. 8:15 a.m.-3 p.m., May 1, 2003.

Place: The Westin Peachtree Plaza, 210 Peachtree Street, NW., Atlanta, Georgia 30303-1745.

Status: Open to the public, limited only by the space available.

Purpose: The Committee advises and makes recommendations to the Secretary, Health and Human Services, the Director, CDC, and the Director, NCIPC, regarding feasible goals for the prevention and control of injury. The Committee makes recommendations regarding policies, strategies, objectives, and priorities, and reviews progress toward injury prevention and control. The Committee provides advice on the appropriate balance of intramural and extramural research, and also provides guidance on the needs, structure, progress and performance of intramural programs, and on extramural scientific program matters. The Committee provides second-level scientific and programmatic review for applications for research grants, cooperative agreements, and training grants related to injury control and violence prevention, and recommends approval of projects that merit further consideration for funding support. The Committee also recommends areas of research to be supported by contracts and cooperative agreements and provides concept review of program proposals and announcements.

Matters to be Discussed: Agenda items include reports from the Science and Program Review Subcommittee, the Subcommittee on Intimate Partner Violence and Sexual Assault (formerly known as the Family and Intimate Violence Prevention Subcommittee), and the Working Group on Injury Control and Infrastructure Enhancement; an update from the Director, NCIPC; introduction to the National Violent Data Reporting System (NVDRS); implementation and progress of NVDRS; using data on violent deaths to make a difference; how NVDRS fits into building state injury programs; introduction to suicide prevention; a history of CDC's suicide prevention efforts; national strategy for suicide prevention; presentations by several Federal agencies on their suicide prevention activities; CDC's suicide prevention activities; an update on NCIPC terrorism preparedness and response activities; and terrorism and mental health.

Agenda items are subject to change as priorities dictate.

CONTACT PERSON FOR MORE INFORMATION: Ms. Louise Galaska, Executive Secretary, ACIPC, NCIPC, CDC, 4770 Buford Highway, NE., M/S K02, Atlanta, Georgia 30341-3724, telephone 770/488-4694.

The Director, Management Analysis and Services Office, has been delegated the authority to sign Federal Register notices pertaining to announcements of meetings and other committee management activities, for both the Centers for Disease Control and Prevention and the Agency for Toxic Substances and Disease Registry.

Dated: April 3, 2003.
Alvin Hall,
Director, Management Analysis and Services Office, Centers for Disease Control and Prevention.

[FR Doc. 03-8744 Filed 4-9-03; 8:45 am]

BILLING CODE 4163-18-P